DEPARTMENT OF DEFENSE

Office of the Secretary

[Docket ID: DoD-2025-OS-0375]

Proposed Collection; Comment Request

AGENCY: Office of the Under Secretary of Defense for Acquisition and Sustainment (USD(A&S)), Department of Defense (DoD).

ACTION: 60-Day information collection notice.

SUMMARY: In compliance with the Paperwork Reduction Act of 1995, the Defense Logistics Agency (DLA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by October 6, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Logistics Agency, 8725 John J Kingman Rd., STP 10400, Ft Belvoir, VA 22060, Mr. Timothy Murphy, 571-224-7235.

SUPPLEMENTARY INFORMATION:

Title; Associated Form; and OMB Number: DLA Energy Request for Customer QR Code; DLA Energy Form 2063; OMB Control Number 0704-0640.

Needs and Uses: Entities with a fuel purchase agreement with DLA Energy, including DoD, Federal Agencies, Federal Contractors, and Non-U.S. Government Entities, can request a Customer Quick Response (QR) code to purchase petroleum and aerospace products from DLA Energy via the DLA Form 2063, “DLA Energy Request for Customer QR Code.” DoD Manual 4140.25, “DoD Management of Energy Commodities: Sales Accountability and Documentation Management,” authorizes customers to use several forms of Authorized Purchase Source Media to buy fuel from DLA Energy. One of these methods is via Customer QR codes. DLA Energy Publication P-29, “EPoS Customer QR Codes,” implements policy, assigns responsibilities, and provides procedures for managing Customer QR codes.

Affected Public: Business or other for-profit.

Annual Burden Hours: 730.

Number of Respondents: 730.

Responses per Respondent: 1.

Annual Responses: 730.

Average Burden per Response: 1 hour.

Frequency: On occasion.

Dated: July 31, 2025.
Stephanie J. Bost,
Alternate OSD Federal Register Liaison Officer, Department of Defense.

[FR Doc. 2025-14761 Filed 8-4-25; 8:45 am]

BILLING CODE 6001-FR-P